DEPARTMENT OF THE INTERIOR

Bureau of Land Management

[CO-921-03-1320-EL; COC 67112]

Notice of Invitation for Coal Exploration License Application, Oxbow Mining, LLC., COC 67112; Colorado

AGENCY: Bureau of Land Management, Interior.

ACTION: Notice of Invitation for Coal Exploration License Application, Oxbow Mining, LLC.

SUMMARY: Pursuant to the Mineral Leasing Act of February 25, 1920, as amended, and to Title 43, Code of Federal Regulations, subpart 3410, members of the public are hereby invited to participate with Oxbow Mining, LLC, in a program for the exploration of unleased coal deposits owned by the United States of America containing approximately 1,039.52 acres in Gunnison County, Colorado.

DATES: Written Notice of Intent to Participate should be addressed to the attention of the following persons and must be received by them October 15, 2003.

ADDRESSES: Karen Purvis, CO-921, Solid Minerals Staff, Division of Energy, Lands and Minerals, Colorado State Office, Bureau of Land Management, 2850 Youngfield Street, Lakewood, Colorado 80215; and, Kenneth Ball, Oxbow Mining, LLC, PO Box 535, 3737 Highway 133, Somerset, Colorado 81434.

SUPPLEMENTARY INFORMATION: The application for coal exploration license is available for public inspection during normal business hours under serial number COC 67112 at the Bureau of Land Management, Colorado State Office, 2850 Youngfield Street, Lakewood, Colorado 80215, and at the Uncompahgre Field Office, 2505 South Townsend Avenue, Montrose, Colorado 81401. Any party electing to participate in this program must share all costs on a pro rata basis with Oxbow Mining, LLC, and with any other party or parties who elect to participate.

Dated: August 18, 2003.
Karen Purvis,
Solid Minerals Staff, Division of Energy, Lands and Minerals.

[FR Doc. 03-23450 Filed 9-12-03; 8:45 am]

BILLING CODE 4310-JB-P